DEPARTMENT OF THE INTERIOR

Fish and Wildlife Service

[FWS-R6-ES-2016-N060]; [FXES11130900000C6-123-FF09E30000]

Endangered and Threatened Wildlife and Plants; Workshop To Review the Habitat-Based Recovery Criteria for the Grizzly Bear in the Northern Continental Divide Ecosystem

AGENCY: Fish and Wildlife Service, Interior.

ACTION: Notice of public workshop.

SUMMARY: The Fish and Wildlife Service hereby gives notice that a public workshop will be held to review the habitat-based recovery criteria for the grizzly bear in the Northern Continental Divide Ecosystem (NCDE). The workshop will allow scientists and other interested parties the opportunity to submit oral or written comments.

DATES: The public workshop will be held from 1 p.m. to 4 p.m. and 6 p.m. to 8 p.m. on July 7, 2016.

ADDRESSES: The public workshop will be held at the Double Tree Hotel, 100 Madison Street, Missoula, Montana 59812. Comment and materials concerning the workshop should be sent to the Grizzly Bear Recovery Office, U.S. Fish and Wildlife Service, University Hall, Room 309, Missoula, MT 59812. Comments and materials received will be available for inspection, by appointment, during normal business hours at the Service Grizzly Bear Recovery Office address.

FOR FURTHER INFORMATION CONTACT: The Grizzly Bear Recovery Office (see ADDRESSES), at 406-243-4903 (phone) or 406-329-3212 (fax).

SUPPLEMENTARY INFORMATION: The Fish and Wildlife Service hereby gives notice that a public workshop will be held to review the habitat-based recovery criteria for the grizzly bear (Ursus arctos horribilis) in the Northern Continental Divide Ecosystem (NCDE). The workshop will allow scientists and other interested parties the opportunity to submit oral or written comments.

Background

The grizzly bear is listed as a threatened species in the 48 contiguous States. The Endangered Species Act of 1973, as amended (16 U.S.C. 1531 et seq.), requires the development of recovery plans for listed species unless such a plan would not promote the conservation of a particular species. A revised Grizzly Bear Recovery Plan was approved by the Fish and Wildlife Service (Service) on September 10, 1993. The 1993 Recovery Plan identifies distinct Recovery Zones and unique recovery criteria for six different grizzly bear populations, including the NCDE, with the intent that these individual populations would be delisted as they each achieve recovery (U.S. Fish and Wildlife Service 1993, pp. ii, 33-34). One important component of recovery plans is the inclusion of objective, measurable recovery criteria. The habitat-based recovery criteria will be developed in part by taking into account the oral and written comments received at the habitat-based recovery criteria workshop and written comments received. The final habitat-based recovery criteria will be appended to the 1993 Grizzly Bear Recovery Plan for the NCDE and incorporated into the NCDE Grizzly Bear Conservation Strategy. The Recovery Plan sets out guidance for the Service, States, and other partners on methods to minimize threats to grizzly bears and criteria that may be used to measure if recovery has been achieved while the Conservation Strategy is the guide to post-delisting management.

The Service will hold a public workshop seeking input and ideas on objective, measurable habitat-based recovery criteria in the Draft NCDE Grizzly Bear Conservation Strategy (U.S. Fish and Wildlife Service 2013, available online at http://www.fws.gov/mountain-prairie/es/grizzlyBear.php), and the Draft Environmental Impact Statement for the NCDE National Forests (USDA Forest Service 2016, available online at http://www.fs.usda.gov/detailfull/flathead/home/?cid=stelprdb5422786&width=full). We seek ideas and information about characteristics of habitat necessary to support a recovered population of grizzly bears and habitat parameters that can be measured and directly related to grizzly bear population health. At the workshop, the Service also wants to obtain information and comments on methods for monitoring the habitat-based recovery criteria. Emphasis of this workshop will be on the habitat needs of the NCDE grizzly bear population.

The Service seeks the input of scientists, the public, and interested organizations at the workshop. The workshop will be held in Missoula, Montana, on July 7, 2016 (see ADDRESSES). The workshop will be held from 1 p.m. to 8 p.m., with one break (see DATES). Participants are invited to present information in oral and written form. All comments presented orally should also be submitted in writing to facilitate review of these comments. Those wishing to present information or comments orally at the workshop are asked to contact the Grizzly Bear Recovery Office (see FOR FURTHER INFORMATION CONTACT) so that scheduling of oral presentations can be arranged in advance. Anyone wishing to provide information or comments, but unable to attend the workshop, should send the information or comments to the Grizzly Bear Recovery Office (see ADDRESSES) within 15 calendar days of the workshop. All information and comments previously or subsequently received within the applicable submission period will be considered during the development of the habitat-based recovery criteria.

Public Availability of Comments

Before including your address, phone number, email address, or other personal identifying information in your comment, you should be aware that your entire comment—including your personal identifying information—may be made publicly available at any time. While you may ask us in your comment to withhold your personal identifying information from public review, we cannot guarantee that we will be able to do so.

Authority

The authority for this action is section 4(f) of the Endangered Species Act, 16 U.S.C. 1533(f).

Dated: April 6, 2016.
Matt Hogan,
Deputy Regional Director, Mountain-Prairie Region, Denver, Colorado.

[FR Doc. 2016-11057 Filed 5-10-16; 8:45 am]

BILLING CODE 4333-15-P